DEPARTMENT OF COMMERCE

National Oceanic and Atmospheric Administration

50 CFR Part 660

[I.D. 010802C]

Fisheries off the West Coast States and in the Western Pacific; Pacific Coast Groundfish Fishery

AGENCY: National Marine Fisheries Service (NMFS), National Oceanic and Atmospheric Administration (NOAA), Commerce.

ACTION: Notice of availability; request for comments.

SUMMARY: NMFS has prepared a report that summarizes the results of the scoping process to date for a comprehensive environmental impact statement (EIS) on Federal management of the Pacific Coast Groundfish Fishery. As a result of public comments received during the scoping process, NMFS has improved its approach to the EIS through development of an enhanced description of the purpose and need for NMFS action, a clear identification of significant issues related to the proposed action, and a distinction of certain elements of the proposed action related to essential fish habitat (EFH) from the broader management program for Pacific groundfish. To avoid confusion as a result of this distinction, NMFS will prepare two separate EISs. The intent of this document is to announce the availability of the scoping summary and to describe the rationale for preparing two EISs.

DATES: Written comments will be accepted on or before March 11, 2002.

ADDRESSES: Copies of the scoping report may be obtained during business hours at the office of the NMFS Northwest Regional Administrator. The scoping report is also available on the NMFS, Northwest Region's website at www.nwr.noaa.gov/1sustfsh/groundfish/gf_eis.

Written comments on the scoping report should be submitted to D. Robert Lohn, Northwest Regional Administrator, NMFS, 7600 Sand Point Way N.E., Bin C15700, Bldg. 1, Seattle, WA, 98115-0070. Comments also may be sent via facsimile (fax) to 206-526-6737. Comments will not be accepted if submitted via e-mail or the internet.

FOR FURTHER INFORMATION CONTACT: Steve Copps, Northwest Region, NMFS, 206-526-6187; fax: 206-526-6426 and e-mail: steve.copps@noaa.gov or Jim Glock, Northwest Region, NMFS, 503-231-2178; fax: 503-872-2737 and e-mail: jim.glock@noaa.gov.

SUPPLEMENTARY INFORMATION:

Electronic Access

This notice of availability is also accessible via the internet at the Office of the Federal Register website at

www.access.gpo.gov/su_docs/aces/aces140.html.

Background

NMFS has concluded the initial scoping process for an EIS on the Federal management of the Pacific Coast Groundfish Fishery and has published a summary report. Scoping was initiated on April 10, 2001, through publication of a Notice of Intent (66 FR 18586). The report was initially published on the NMFS, Northwest Region website in August, 2001, to provide a summary of all comments received and key issues identified during the scoping process. In contemplation of these comments and issues, NMFS has taken advantage of the scoping process to clarify the purpose and need for Federal action and to revise the scope of analysis. This clarification will result in the preparation of two separate EISs. One EIS will be a broad analysis of the Federal management program, and the other will be specific to the designation of EFH and associated management measures, including measures to reduce effects of fishing on EFH. NMFS believes this separation will improve public understanding and participation in the National Environmental Policy Act (NEPA) process, make each EIS more useful in future management decisions, and, more clearly, distinguish between programmatic and specific EFH issues. NMFS' goals in preparing these EISs are as follows:

Programmatic EIS

NMFS is proposing to continue authorization and management of the Pacific Coast Groundfish Fishery pursuant to the Pacific Coast Groundfish Fishery Management Plan (FMP). In order to ensure this action complies with the requirements of the Magnuson-Stevens Fishery Conservation and Management Act (Magnuson-Stevens Act) and other legal requirements, NMFS has initiated an EIS on the FMP.

The Pacific Fishery Management Council (Council) prepared the original FMP and EIS in the late 1970s, and NMFS implemented the FMP in 1982. Since then, the Council has amended the FMP 13 times in response to development of the commercial and recreational groundfish fisheries, changes in the groundfish resources, and amendments to the Magnuson-Stevens Act. NMFS has initiated this EIS to update the original EIS to reflect changes in the fishery and to evaluate the impacts of the Federal groundfish management program on the human environment, including the marine fish resources, the physical ocean environment and ecosystem, and human society.

Additional long-term direction for the fishery was provided in October 2000 when the Council adopted the Groundfish Fishery Strategic Plan - “Transition to Sustainability.” The Strategic Plan recommends significant changes in the management and structure of the groundfish fishery.

The EIS will be a broad analysis of the entire management program, including alternative management strategies not currently in place. As a “programmatic” EIS, it will analyze the impacts of alternative management policies and regulations on the human environment. NMFS envisions that future FMP amendments and regulations will address discrete issues and that subsequent analyses will be of narrower scope. Those action-specific FMP or regulatory amendments will tier off this programmatic EIS as defined by the Council on Environmental Quality (40 CFR 1508.25).

EFH EIS

NMFS is proposing to amend the FMP to comply with section 303(a)(7) of the Magnuson-Stevens Act. More specifically, the purpose is to identify and describe EFH for each managed species, to identify habitat areas of particular concern (HAPCs) within EFH, if appropriate, and to minimize, to the extent practicable, adverse effects on EFH caused by fishing. These actions are being undertaken to ensure the conservation and enhancement of EFH as required under the Magnuson-Stevens Act and to comply with an order by the U.S. District Court for the District of Columbia.

Pursuant to the Magnuson-Stevens Act and the EFH regulations (50 CFR part 600, subpart J), the eight Fishery Management Councils submitted fishery management plan amendments and associated environmental assessments (EAs), as required under NEPA, to NMFS for Secretarial review. NMFS approved or partially approved all the EFH fishery management plan amendments in accordance with section 304(a) of the Magnuson-Stevens Act. Subsequently, a coalition of seven environmental groups and two fishermen's associations brought suit challenging NMFS' approval of certain EFH amendments prepared by the Gulf of Mexico, Caribbean, New England, North Pacific, and Pacific Fishery Management Councils (American Oceans Campaign et al v. Daley et al, Civil Action No. 99-982(GK)). The suit specifically contested the adequacy of the evaluations of fishing gear impacts on EFH in the fishery management plan amendments and the analyses of environmental impacts in the EAs.

The U.S. District Court for the District of Columbia found that the agency's decisions on the subject EFH amendments were in accordance with the Magnuson-Stevens Act, but found that the EAs for the Councils' amendments were inadequate and in violation of NEPA. The Court determined that the EAs prepared for the EFH provisions of the fishery management plans did not fully consider all relevant alternatives. The Court specifically criticized several of the EAs for evaluating only two options for the EFH amendments: either the approval of the amendment or the status quo. Additionally, the decision noted that the descriptions and analyses of the environmental impacts of the proposed actions and alternatives were vague or not fully explained. The Court ordered NMFS to complete a new and thorough NEPA analysis for each EFH amendment named in the suit. This EIS responds to the Court's directive to NMFS to complete new NEPA analyses for Amendment 11 to the Pacific Coast Groundfish FMP.

Authority: 16 U.S.C. 1801 et seq.

Dated: January 31, 2002.
Bruce C. Morehead,
Acting Director, Office of Sustainable Fisheries, National Marine Fisheries Service.

[FR Doc. 02-2878 Filed 2-7-02; 8:45 am]

BILLING CODE 3510-22-S